DEPARTMENT OF COMMERCE

International Trade Administration

[A-580-883]

Certain Hot-Rolled Steel Flat Products From the Republic of Korea: Final Results of Antidumping Duty Administrative Review and Final Determination of No Shipments; 2021-2022

AGENCY: Enforcement and Compliance, International Trade Administration, Department of Commerce.

SUMMARY: The U.S. Department of Commerce (Commerce) determines that certain hot-rolled steel flat products (hot-rolled steel) from the Republic of Korea (Korea) were not sold at less than normal value during the period of review (POR), October 1, 2021, through September 30, 2022.

DATES: Applicable August 16, 2023.

FOR FURTHER INFORMATION CONTACT: Dmitry Vladimirov or Thomas Schauer, AD/CVD Operations, Office I, Enforcement and Compliance, International Trade Administration, U.S. Department of Commerce, 1401 Constitution Avenue NW, Washington, DC 20230; telephone: (202) 482-0665 or (202) 482-0410, respectively.

SUPPLEMENTARY INFORMATION:

Background

On June 13, 2023, Commerce published in the Federal Register the preliminary results of the 2021-2022 administrative review ¹ of the antidumping duty order on hot-rolled steel from Korea.² We invited interested parties to comment on the Preliminary Results.³ No interested party submitted comments. Accordingly, the final results of review remain unchanged from the Preliminary Results. Commerce conducted this administrative review in accordance with section 751(a) of the Tariff Act of 1930, as amended (the Act).

¹ See Certain Hot-Rolled Steel Flat Products from the Republic of Korea: Preliminary Results of Antidumping Duty Administrative Review and Preliminary Determination of No Shipments; 2021-2022, 88 FR 38489 (June 13, 2023) (Preliminary Results), and accompanying Preliminary Decision Memorandum (PDM).

² See Certain Hot-Rolled Steel Flat Products from Australia, Brazil, Japan, the Republic of Korea, the Netherlands, the Republic of Turkey, and the United Kingdom: Amended Final Affirmative Antidumping Determinations for Australia, the Republic of Korea, and the Republic of Turkey and Antidumping Duty Orders, 81 FR 67962 (October 3, 2016) (Order).

³ See Certain Hot-Rolled Steel Flat Products from the Republic of Korea: Preliminary Results of Antidumping Duty Administrative Review and Preliminary Determination of No Shipments; 2021-2022, 88 FR 38489, 38490 (June 13, 2023).

Scope of the Order

The products covered by this Order are hot-rolled steel from Korea. A full description of the scope of the Order is provided in the Preliminary Results PDM.⁴

⁴ See Preliminary Results PDM.

Final Determination of No Shipments

As noted in the Preliminary Results, we received a no-shipments claim from Aekyung Chemical Co., Ltd. (Aekyung), and we preliminarily determined that Aekyung had no shipments during the POR.⁵ Following the publication of the Preliminary Results, we received no comments from interested parties regarding Aekyung, nor has any party submitted record evidence which calls our preliminary determination of no shipments for this company into question. Therefore, for the final results of review, we continue to find that Aekyung had no shipments of subject merchandise during the POR. Accordingly, consistent with Commerce's practice, we intend to instruct U.S. Customs and Border Protection (CBP) to liquidate any existing entries of merchandise produced by Aekyung, but exported by other parties, at the rate for the intermediate reseller, if available, or at the all-others rate.⁶

⁵ See Preliminary Results, 88 FR at 38489.

⁶ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010).

Final Results of Review

We determine that the following weighted-average dumping margin exists for the period October 1, 2021, through September 30, 2022:

⁷ We initiated this review with respect to the following companies: POSCO and POSCO International Corporation. See Initiation of Antidumping and Countervailing Duty Administrative Reviews, 87 FR 74404, 74407. Commerce previously treated POSCO and POSCO International Corporation as a single entity. See Certain Hot-Rolled Steel Flat Products from the Republic of Korea: Preliminary Results of Antidumping Duty Administrative Review; 2019-2020, 86 FR 59985 (October 29, 2021), and accompanying PDM at 6-13, unchanged in Certain Hot-Rolled Steel Flat Products from the Republic of Korea: Final Results of Antidumping Duty Administrative Review; 2019-2020, 87 FR 12660 (March 7, 2022).

⁸ See the appendix for a full list of companies not individually examined in this review.

Producer/exporter | Weighted- average dumping margin (percent)
Hyundai Steel Company | 0.00
POSCO; POSCO International Corporation ⁷ | 0.00
Companies Not Individually Examined ⁸ | 0.00

Disclosure

Because Commerce received no comments on the Preliminary Results, we have not modified our analysis and no decision memorandum accompanies this Federal Register notice. We are adopting the Preliminary Results as the final results of this review. Consequently, there are no new calculations to disclose in accordance with 19 CFR 351.224(b) for these final results of review.

Assessment Rates

Pursuant to section 751(a)(2)(C) of the Act and 19 CFR 351.212(b), Commerce has determined, and CBP shall assess, antidumping duties on all appropriate entries of subject merchandise in accordance with the final results of this review. Because both of the respondents' weighted-average dumping margins or an importer-specific assessment rates are zero or de minimis in the final results of review, we intend to instruct CBP to liquidate entries without regard to antidumping duties.⁹ The final results of this administrative review shall be the basis for the assessment of antidumping duties on entries of merchandise covered by the final results of this review and for future deposits of estimated duties, where applicable.¹⁰

⁹ See Antidumping Proceedings: Calculation of the Weighted-Average Dumping Margin and Assessment Rate in Certain Antidumping Proceedings: Final Modification, 77 FR 8101, 8102-03 (February 14, 2012); see also 19 CFR 351.106(c)(2).

¹⁰ See section 751(a)(2)(C) of the Act.

For entries of subject merchandise during the POR produced by either of the respondents for which they did not know that the merchandise was destined to the United States, we will instruct CBP to liquidate unreviewed entries at the all-others rate if there is no rate for the intermediate company(ies) involved in the transaction.¹¹ For the companies identified in the Appendix that were not selected for individual examination, we will instruct CBP to liquidate entries without regard to antidumping duties.

¹¹ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of administrative review for all shipments of hot-rolled steel from Korea entered, or withdrawn from warehouse, for consumption on or after the date of publication as provided by section 751(a)(2)(C) of the Act: (1) the cash deposit rate for the respondents will be equal to the weighted-average dumping margin established in the final results of this administrative review; (2) for merchandise exported by a company not covered in this review but covered in a prior segment of the proceeding, the cash deposit rate will continue to be the company-specific rate published in the completed segment for the most recent period; (3) if the exporter is not a firm covered in this review or the original investigation but the producer is, then the cash deposit rate will be the rate established in the completed segment for the most recent period for the producer of the merchandise; (4) the cash deposit rate for all other producers or exporters will continue to be 6.05 percent, the all-others rate established in the less-than-fair-value investigation.¹² These cash deposit requirements, when imposed, shall remain in effect until further notice.

¹² See Order, 81 FR at 67965.

Notification to Importers

This notice serves as a final reminder to importers of their responsibility under 19 CFR 351.402(f)(2) to file a certificate regarding the reimbursement of antidumping and/or countervailing duties prior to liquidation of the relevant entries during the POR. Failure to comply with this requirement could result in Commerce's presumption that reimbursement of antidumping and/or countervailing duties occurred and the subsequent assessment of double antidumping duties, and/or an increase in the amount of antidumping duties by the amount of countervailing duties.

Administrative Protective Order

This notice also serves as a final reminder to parties subject to an administrative protective order (APO) of their responsibility concerning the return or destruction of proprietary information disclosed under APO in accordance with 19 CFR 351.305. Timely written notification of the return or destruction of APO materials or conversion to judicial protective order is hereby requested. Failure to comply with the regulations and terms of an APO is a violation subject to sanction.

Notification to Interested Parties

Commerce is issuing and publishing the final results of this review in accordance with sections 751(a)(1) and 777(i)(1) of the Act, and 351.221(b)(5).

Dated: August 10, 2023.
Lisa W. Wang,
Assistant Secretary for Enforcement and Compliance.

Appendix—List of Companies Not Selected for Individual Examination

1. AJU Besteel Co., Ltd.

2. Ameri Source Korea

3. Chemaven Co., Ltd.

4. Cj Cheiljedang Corp.

5. Cj Global Logistics Service Inc.

6. Dongkuk Industries Co., Ltd.

7. Dongkuk Steel Mill Co., Ltd.

8. Geco Industries Co., Ltd.

9. Geumok Tech. Co., Ltd.

10. Goi Tech Industries Co., Ltd.

11. Golden State Corporation

12. Gs Global Corp.

13. Gs Holdings Corp.

14. Hanawell Co., Ltd.

15. Hanjin Gls Co., Ltd.

16. Hankook Co., Ltd.

17. HISTEEL

18. Hyosung Corporation

19. Hyosung Tnc Corporation

20. Hyundai Glovis Co., Ltd.

21. Hyundai Rb Co., Ltd.

22. Il Jin Nts Co., Ltd.

23. Inchang Electronics Co., Ltd.

24. J&K Korea Co., Ltd.

25. Jeil Industries Co., Ltd.

26. Jeil Metal Co., Ltd.

27. Jin Young Metal

28. Jun Il Co., Ltd.

29. KG Dongbu Steel Co., Ltd.

30. KG Steel Corporation

31. Kumkang Kind Co., Ltd.

32. Lg Electronics Inc.

33. Maxflex Corp.

34. Mitsubishi Corp. Korea

35. Mitsui Chemicals & Skc Polyurethane

36. Nexteel Co., Ltd.

37. Samsung Electronics Co., Ltd.

38. SeAH Steel Corporation

39. Sja Inc. (Korea)

40. Solvay Silica Korea

41. Soon Ho Co., Ltd.

42. Sumitomo Corp. Korea Ltd.

43. Sungjin Precision

44. Wintec Korea Inc.

45. Wonbangtech Co., Ltd.

[FR Doc. 2023-17524 Filed 8-15-23; 8:45 am]

BILLING CODE 3510-DS-P